ENVIRONMENTAL PROTECTION AGENCY

40 CFR Part 271

[EPA-R04-RCRA-2018-0255; FRL-9989-93-Region 4]

Georgia: Final Authorization of State Hazardous Waste Management Program Revisions

AGENCY: Environmental Protection Agency (EPA).

ACTION: Final rule.

SUMMARY: The Environmental Protection Agency (EPA) is granting Georgia final authorization for changes to its hazardous waste program under the Resource Conservation and Recovery Act (RCRA). The Agency published a notice of proposed rulemaking on August 13, 2018, and provided for public comment. No comments were received on Georgia's proposed revisions. No further opportunity for comment will be provided.

DATES: This final authorization is effective February 22, 2019.

ADDRESSES: The EPA has established a docket for this action under Docket ID No. EPA-R04-2018-0255. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available electronically through http://www.regulations.gov.

FOR FURTHER INFORMATION CONTACT: Thornell Cheeks, Materials and Waste Management Branch, RCR Division, U.S. Environmental Protection Agency, Atlanta Federal Center, 61 Forsyth Street SW, Atlanta, Georgia 30303-8960; telephone number: (404) 562-8479; fax number: (404) 562-9964; email address: cheeks.thornell@epa.gov.

SUPPLEMENTARY INFORMATION:

A. What changes to Georgia's hazardous waste program is EPA authorizing with this action?

On September 22, 2015, September 12, 2016, and November 7, 2017, Georgia submitted final complete program revision applications seeking authorization of changes to its hazardous waste program in accordance with 40 CFR 271.21. EPA now makes a final decision that Georgia's hazardous waste program revisions that are being authorized are equivalent to, consistent with, and no less stringent than the Federal program, and therefore satisfy all of the requirements necessary to qualify for final authorization. For a list of State rules being authorized with this Final Rule, please see the Proposed Rulemaking published in the Federal Register 83 FR 39975, August 13, 2018.

B. What is codification and is EPA codifying Georgia's hazardous waste program as authorized in this rule?

Codification is the process of placing citations and references to the State's statutes and regulations that comprise the State's authorized hazardous waste program into the Code of Federal Regulations (CFR). EPA does this by adding those citations and references to the authorized State rules in 40 CFR part 272. EPA is not codifying the authorization of Georgia's revisions at this time. However, EPA reserves the ability to amend 40 CFR part 272, subpart L, for the authorization of Georgia's program changes at a later date.

C. Statutory and Executive Order Reviews

This final authorization revises Georgia's authorized hazardous waste management program pursuant to Section 3006 of RCRA and imposes no requirements other than those currently imposed by State law. For further information on how this authorization complies with applicable executive orders and statutory provisions, please see the Proposed Rule published in the Federal Register 83 FR 39975, August 13, 2018. The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This final action will be effective February 22, 2019.

List of Subjects in 40 CFR Part 271

Environmental protection, Administrative practice and procedure, Confidential business information, Hazardous waste, Hazardous waste transportation, Intergovernmental relations, Penalties, Reporting and recordkeeping requirements.

Authority: This action is issued under the authority of Sections 2002(a), 3006, and 7004(b) of the Solid Waste Disposal Act, as amended, 42 U.S.C. 6912(a), 6926, and 6974(b).

Dated: December 21, 2018.
Mary S. Walker,
Acting Regional Administrator, Region 4.

[FR Doc. 2019-03106 Filed 2-21-19; 8:45 am]

BILLING CODE 6560-50-P